NATIONAL SCIENCE FOUNDATION

Committee on Strategy and Budget (CSB) Meeting

Agency Holding Meeting: National Science Board.

Date and Time: October 11, 2005, 3 p.m.-3:45 p.m. (ET).

Place: National Science Foundation, 4201 Wilson Boulevard, Arlington, VA 22230, Public Meeting Room 220.

Status: This meeting will be open to the public.

Matters To Be Considered:

Open Session (3 p.m.-3:45 p.m.)

Discussion of CBS Input to the 2020 Vision for NSF Document.

For information contact: Dr. Michael P. Crosby, Executive Officer and NSB Office Director, (703) 292-7000, http://www.nsf.gov/nsb.

Michael P. Crosby,
Executive Officer and NSB Office Director.

[FR Doc. 05-20159 Filed 10-3-05; 4:06 pm]

BILLING CODE 7555-01-P